DEPARTMENT OF HEALTH AND HUMAN SERVICES

National Institutes of Health

National Institute of Allergy and Infectious Diseases; Amended Notice of Meeting

Notice is hereby given of a change in the meeting of the National Advisory Allergy and Infectious Diseases Council, September 14, 2020, 08:30 a.m. to September 14, 2020, 05:00 p.m., National Institutes of Health, Natcher Building, 45 Center Drive, Bethesda, MD 20892, which was published in the Federal Register on December 27, 2019, 84 FR 71438.

This notice is being amended to change the meeting from in-person to a virtual meeting. The date and times remain the same. Open session will be videocast from the https://videocast.nih.gov/. The meeting is partially Closed to the public.

Dated: July 17, 2020.
Miguelina Perez,
Program Analyst, Office of Federal Advisory Committee Policy.

[FR Doc. 2020-15859 Filed 7-21-20; 8:45 am]

BILLING CODE 4140-01-P